NUCLEAR REGULATORY COMMISSION

[Docket No. 50-346]

Firstenergy Nuclear Operating Company; Davis-Besse Nuclear Power Station, Unit 1; Notice of Withdrawal of Application for Amendment to Facility Operating License

The U.S. Nuclear Regulatory Commission (the Commission) has granted the request of FirstEnergy Nuclear Operating Company (the licensee) to withdraw its May 3, 2004, application for proposed amendment to Facility Operating License No. NPF-3; for the Davis-Besse Nuclear Power Station (DBNPS), Unit 1, located in Ottawa County, Ohio.

The proposed amendment would have changed the facility as described in the DBNPS Updated Safety Analysis Report to modify the design requirements for the emergency diesel generators (EDGs). Specifically, the proposed amendment would have allowed a departure from the regulatory position of Safety Guide 9, “Selection of Diesel Generator Set Capacity for Standby Power Supplies,” for the frequency and voltage transient during the EDG automatic loading sequence.

The Commission had previously issued a Notice of Consideration of Issuance of Amendment published in the Federal Register on May 25, 2004 (69 FR 29767). However, by letter dated August 29, 2005, the licensee withdrew the proposed change.

For further details with respect to this action, see the application for amendment dated May 3, 2004 (Agencywide Documents Access and Management System (ADAMS) Accession No. ML041260319), as supplemented by letter dated April 28, 2005 (ADAMS Accession No. ML051220367), and the licensee's letter dated August 29, 2005 (ADAMS Accession No. ML052440346), which withdrew the application for license amendment. Documents may be examined, and/or copied for a fee, at the NRC's Public Document Room (PDR), located at One White Flint North, Public File Area 01 F21, 11555 Rockville Pike (first floor), Rockville, Maryland. Publicly available records will be accessible electronically from the ADAMS Public Electronic Reading Room on the internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated at Rockville, Maryland, this 14th day of September 2005.
For the Nuclear Regulatory Commission.
William A. Macon, Jr.,
Project Manager, Section 2, Project Directorate III, Division of Licensing Project Management, Office of Nuclear Reactor Regulation.

[FR Doc. 05-18798 Filed 9-20-05; 8:45 am]

BILLING CODE 7590-01-P